DEPARTMENT OF LABOR

Veterans' Employment and Training Service

Advisory Committee on Veterans' Employment, Training and Employer Outreach (ACVETEO); Meeting

AGENCY: Veterans' Employment and Training Service (VETS), Department of Labor (DOL).

ACTION: Notice of open meeting.

SUMMARY: This notice sets forth the schedule and proposed agenda of a forthcoming meeting of the ACVETEO. The ACVETEO will discuss the DOL core programs and services that assist veterans seeking employment and raise employer awareness as to the advantages of hiring veterans. There will be an opportunity for individuals or organizations to address the committee. Any individual or organization that wishes to do so should contact Mr. Gregory Green at ACVETEO@dol.gov. Additional information regarding the Committee, including its charter, current membership list, annual reports, meeting minutes, and meeting updates may be found at https://www.dol.gov/agencies/vets/about/advisorycommittee. This notice also describes the functions of the ACVETEO. Notice of this meeting is required under the Federal Advisory Committee Act. This document is intended to notify the general public.

DATES: Tuesday, December 20, 2022 beginning at 9 a.m. and ending at approximately 11 a.m. (EDT).

ADDRESSES: This ACVETEO meeting will be held via TEAMS and teleconference. Meeting information will be posted at the link below under the Meeting Updates tab. https://www.dol.gov/agencies/vets/about/advisorycommittee.

Notice of Intent To Attend the Meeting: All meeting participants should submit a notice of intent to attend by Friday, December 9, 2022, via email to Mr. Gregory Green at ACVETEO@dol.gov, subject line “December 2022 ACVETEO Meeting.” Individuals who will need accommodations for a disability in order to attend the meeting (e.g., interpreting services, assistive listening devices, and/or materials in alternative format) should notify the Advisory Committee no later than Friday, December 9, 2022, by contacting Mr. Gregory Green at ACVETEO@dol.gov.

Requests made after this date will be reviewed, but availability of the requested accommodations cannot be guaranteed.

Notice of Intent To Attend the Meeting: All meeting participants should submit a notice of intent to attend by Friday, December 9, 2022, via email to Mr. Gregory Green at ACVETEO@dol.gov, subject line “December 2022 ACVETEO Meeting.”

Individuals who will need accommodations for a disability in order to attend the meeting (e.g., interpreting services, assistive listening devices, and/or materials in alternative format) should notify the Advisory Committee no later than Friday, December 9, 2022 by contacting Mr. Gregory Green at ACVETEO@dol.gov. Requests made after this date will be reviewed, but availability of the requested accommodations cannot be guaranteed.

FOR FURTHER INFORMATION CONTACT: Mr. Gregory Green, Designated Federal Official for the ACVETEO, ACVETEO@dol.gov, (202) 693-4734.

SUPPLEMENTARY INFORMATION: The ACVETEO is a Congressionally mandated advisory committee authorized under Title 38, U.S. Code, Section 4110 and subject to the Federal Advisory Committee Act, 5 U.S.C. App. 2, as amended. The ACVETEO is responsible for: assessing employment and training needs of veterans; determining the extent to which the programs and activities of the U.S. Department of Labor meet these needs; assisting to conduct outreach to employers seeking to hire veterans; making recommendations to the Secretary, through the Assistant Secretary for Veterans' Employment and Training Service, with respect to outreach activities and employment and training needs of veterans; and carrying out such other activities necessary to make required reports and recommendations. The ACVETEO meets at least quarterly.

Agenda

9 a.m. Welcome and remarks, James D. Rodriguez, Assistant Secretary, Veterans' Employment and Training Service

9:10 a.m. Administrative Business, Gregory Green, Designated Federal Official

9:15 a.m. Briefing on VETS' Customer Experience (CX) initiative, Margarita Devlin, Deputy Assistant Secretary, Veterans' Employment and Training Service

9:45 a.m. Briefing on Transition Assistance Program (TAP), Tim Winter, Director, TAP

10:15 a.m. Discussion and review of Fiscal Year 2022 Annual Report Recommendations Chairman, Darrell Roberts

10:45 p.m. Public Forum, Gregory Green, Designated Federal Official

11 p.m. Adjourn

Signed in Washington, DC, this 25th day of November 2022.
James D. Rodriquez,
Assistant Secretary, Veterans' Employment and Training Service.

[FR Doc. 2022-26109 Filed 11-29-22; 8:45 am]

BILLING CODE 4510-79-P